DEPARTMENT OF TRANSPORTATION

Federal Aviation Administration

Transport Airplane Wheels and Wheel and Brake Assemblies

AGENCY: Federal Aviation Administration (FAA), DOT.

ACTION: Notice of availability and request for public comment.

SUMMARY: This notice announces the availability of, and requests comment on proposed Technical Standard Order (TSO) C-135a, Transport Airplane Wheels and Wheel and Brake Assemblies. This proposed TSO tells persons seeking a TSO authorization or letter of design approval what minimum performance standards (MPS) their Transport Airplane Wheels and Wheel and Brake Assemblies must meet to be identified with the appropriate TSO marking.

DATES: Comments must be received on or before June 23, 2008.

ADDRESSES: Send all comments on this proposed TSO to: Federal Aviation Administration (FAA), Aircraft Certification Service, Aircraft Engineering Division, Technical Programs and Continued Airworthiness Branch (AIR-120), Room 815, 800 Independence Avenue, SW., Washington DC 20591. ATTN: Mr. George Soteropoulos. Or, you may deliver comments to: Federal Aviation Administration, Room 815, 800 Independence Avenue, SW., Washington, DC 20591.

FOR FURTHER INFORMATION CONTACT: Mr. George Soteropoulos, AIR-120, Room 815, Federal Aviation Administration, 800 Independence Avenue SW., Washington, DC 20591. Telephone: (202) 267-9796, fax: (202) 267-5340, e-mail: george.soteropoulos@faa.gov.

SUPPLEMENTARY INFORMATION:

Comments Invited

You are invited to comment on the proposed TSO by submitting written data, views, or arguments to the above address. Comments received may be examined, both before and after the closing date, in room 815 at the above address, weekdays except federal holidays, between 8:30 a.m. and 4:30 p.m. The Director, Aircraft Certification Service, will consider all comments received on or before the closing date before issuing the final TSO.

Background

TSO-C 135 is being revised to remove an installation criterion that is not appropriate at the article level. (Appendix 1 Para. 3.2.2.2., the last sentence.) The revision also adds Appendix 2 to the proposed TSO-C135a's MPS for transport airplane wheel and brake assemblies with electrically actuated brakes. The aforementioned MPS defines the standards for wheel and brake assemblies to be used on airplanes certified under 14 CFR part 25. These standards were defined by the FAA, adopted in SAE Aerospace Standard (AS) 5663, Minimum Performance Requirements for Transport Airplane Wheel and Brake Assemblies Using Electric Power Actuation dated January 2007. Note that compliance with this specification is not considered approval for installation on any transport airplane.

How To Obtain Copies

You can view or download the proposed TSO from its online location at: http://www.airweb.faa.gov/rgl. At this Web page, select “Technical Standard Orders.” At the TSO page, select “Proposed TSOs.” For a paper copy, contact the person listed in FOR FURTHER INFORMATION CONTACT paragraph.

Issued in Washington, DC, on May 13, 2008.
David W. Hempe,
Manager, Aircraft Engineering Division, Aircraft Certification Service.

[FR Doc. E8-11267 Filed 5-21-08; 8:45 am]

BILLING CODE 4910-13-M